DEPARTMENT OF DEFENSE

Office of the Secretary

[Docket ID: DoD-2024-OS-0136]

Privacy Act of 1974; System of Records

AGENCY: Department of Defense (DoD).

ACTION: Notice of a new system of records.

SUMMARY: In accordance with the Privacy Act of 1974, the DoD is establishing a new Department-wide system of records titled, “Military Corrections and Parole Board Records” DoD-0023. This system of records describes DoD's collection, use, and maintenance of records covering military Service members confined in a correctional facility for violation of the Uniform Code of Military Justice. Additionally, DoD is issuing a notice of proposed rulemaking, which proposes to exempt this system of records from certain provisions of the Privacy Act, elsewhere in this issue of the Federal Register.

DATES: This system of records is effective upon publication; however, comments on the Routine Uses will be accepted on or before January 22, 2025. The Routine Uses are effective at the close of the comment period.

ADDRESSES: You may submit comments, identified by docket number and title, by any of the following methods:

* Federal Rulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 05F16, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Rahwa Keleta, Privacy and Civil Liberties Directorate, Office of the Assistant to the Secretary of Defense for Privacy, Civil Liberties, and Transparency, Department of Defense, 4800 Mark Center Drive, Mailbox #24, Suite 05F16, Alexandria, VA 22350-1700; OSD.DPCLTD@mail.mil; (703) 571-0070.

SUPPLEMENTARY INFORMATION:

I. Background

DoD is establishing the “Military Corrections and Parole Board Records,” DoD-0023, as a DoD-wide Privacy Act system of records. A DoD-wide system of records notice (SORN) supports multiple DoD paper or electronic recordkeeping systems operated by more than one DoD component that maintain the same kind of information about individuals for the same purpose. The establishment of DoD-wide SORNs helps DoD standardize the rules governing the collection, maintenance, use, and sharing of personal information in key areas across the enterprise. DoD-wide SORNs also reduce duplicative and overlapping SORNs published by separate DoD components. The creation of DoD-wide SORNs is expected to make locating relevant SORNs easier for DoD personnel and the public and create efficiencies in the operation of the DoD privacy program.

This system of records describes DoD's collection, use, and maintenance of records covering military Service members confined for violation of the Uniform Code of Military Justice. These records include information on prisoner's confinement, health assessment, and disciplinary actions while in confinement, observations by confinement staff and United States probation officers, and confinement utilization assessments such as basis for correctional treatment and education programs. The records also include information used for clemency and parole decisions conducted by the military Departments' Clemency and Parole Boards. The DoD is also issuing a Notice of Proposed Rulemaking to exempt this system of records from certain provisions of the Privacy Act elsewhere in today's issue of the Federal Register.

DoD SORNs have been published in the Federal Register and are available from the address in FOR FURTHER INFORMATION CONTACT or at the Privacy and Civil Liberties Directorate website at https://dpcld.defense.gov/privacy.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, DoD has provided a report of this system of records to the OMB and to Congress.

Dated: December 11, 2024.
Aaron T. Siegel,
Alternate OSD Federal Register Liaison Officer, Department of Defense.

SYSTEM NAME AND NUMBER:

Military Corrections and Parole Board Records, DoD-0023.

SECURITY CLASSIFICATION:

Classified, Unclassified.

SYSTEM LOCATION:

Department of Defense (Department or DoD), located at 1000 Defense Pentagon, Washington, DC 20301-1000, and other Department installations, offices, or mission locations. Information may also be stored within a government-certified cloud, implemented, and overseen by the Department's Chief Information Officer (CIO), 6000 Defense Pentagon, Washington, DC 20301-6000.

SYSTEM MANAGER(S):

The system managers are as follows:

A. Office of Legal Policy, Office of the Under Secretary of Defense for Personnel and Readiness, (OUSD(P&R), 4000 Defense Pentagon, Washington, DC 20301-4000.

B. Director, Air Force Confinement and Corrections, Department of the Air Force, 1517 Billy Mitchell Boulevard, Lackland, TX 78236-0119.

C. Office of the Provost Marshal General, Department of the Army, 2800 Army Pentagon, Washington, DC 20310-2800; Army Corrections Command, 150 Army Pentagon, Washington, DC 20310-0150.

D. Commander, Navy Personnel Command (PERS-00D), Department of the Navy, 5720 Integrity Drive, Millington, TN 38054.

E. Commandant of the Marine Corps (DC I&L, MCICOM G-3/5), Headquarters, U.S. Marine Corps, 3000 Marine Corps Pentagon, Room 2E169, Washington, DC 20350-3000.

F. The Privacy Act responsibilities concerning access, amendment, and disclosure of the records within this system of records have been delegated to the DoD components. DoD components include the Military Departments of the Army, Air Force (including the U.S. Space Force), and Navy (including the U.S. Marine Corps), field operating agencies, major commands, field commands, installations, and activities. To obtain information on the system managers at the Military Departments, Combatant Commands, Defense Agencies, Field Activities, or other DoD components with oversight of the records, please visit www.FOIA.gov to contact the component's Freedom of Information Act (FOIA) office.

AUTHORITY FOR MAINTENANCE OF THE SYSTEM:

10 U.S.C. Chapter 47 sections 801—946a, Uniform Code of Military Justice (UCMJ); 10 U.S.C. Chapter 48 Military Correctional Facilities; 10 U.S.C. 113, Secretary of Defense; 10 U.S.C. 136, Under Secretary of Defense for Personnel and Readiness; 10 U.S.C. 7013, Secretary of the Army; 10 U.S.C. 8013, Secretary of the Navy; 10 U.S.C. 9013, Secretary of the Air Force; 10 U.S.C. 874, Remission and Suspension; 18 U.S.C. 3062, General Arrest Authority for Violation of Release Conditions; 18 U.S.C. 3563, Conditions of Probation; 18 U.S.C. 3603, Duties of Probation Officers; 34 U.S.C. 20101, Crime Victims Fund; 34 U.S.C. 20141, Services To Victims; and E.O. 9397 (SSN), as amended.

PURPOSE(S) OF THE SYSTEM:

A. To document the discipline and confinement of military offenders based on sentence length, geographical location, and treatment programs; and to monitor offenders' movement from military correctional facilities, to other Federal, and State facilities.

B. To document military offenders' participation in educational, vocational, and rehabilitative training and work programs.

C. To track the movement of military prisoners, including those transferred to the Federal Bureau of Prison custody, under terms and conditions consistent with the needs of society, the rights and interests of victims, and the rehabilitation of the prisoner.

D. To support uniformity, effectiveness, and efficiency in military correctional programs, including clemency and supervised release programs, and military correctional facilities (MCF) operations.

E. To document requests and authorizations for supplies and communications with staff.

F. To assess confinement utilization factors such as basis for correctional treatment, population turnover, or relapse into crime, to enable audit and oversight of records collected.

G. To provide relevant information required for clemency and parole decisions that the Service Clemency and Parole Board makes on behalf of the Secretaries of the Military Department.

H. To provide appropriate notification to victims in accordance with Federal victim protection laws.

CATEGORIES OF INDIVIDUALS COVERED BY THE SYSTEM:

Any military Service members confined at a military correctional facility, Federal Bureau Of Prison (FBOP), or approved civilian jails as a result of courts-martial or pending trial by courts-martial and under DoD control; military Service members and former Service members under community supervision once released from a DoD correctional facility and/or transferred to the FBOP; military Service members or former Service members whose cases have been or are being considered by a Clemency and Parole Board; and visitors to such facilities, victim/witnesses, and informants.

CATEGORIES OF RECORDS IN THE SYSTEM:

Records containing information related to the administration of individual prisoners in DoD confinement and correctional custody facilities such as:

A. Personal Information to include name and aliases; DoD ID number; Social Security Number (SSN); prisoner registration number; date of birth; physical, mailing, and email addresses; phone numbers; place of birth; citizenship/immigration status; race/ethnicity; medical information/medical records; biometric data; fingerprints; driver's license number; vehicle registration information; marital status; gender/gender identification; biographical data; property information.

B. Employment Information such as: Position/title, rank/grade, duty station; work address, email address, supervisor's name and contact information; military records, personnel records, financial information, education, and training records.

C. Legal Information such as: trial transcripts, records of trial, charge sheets, exhibits (e.g. documents and recordings attached to records of trial), evidentiary data in any form (including papers, photographs, electronic recordings, electronic data, or video records that were obtained, seized, or otherwise lawfully acquired from any source,) pleadings, sentencing reports, court motions, correspondence, filings, and supporting documents; forms, evidentiary data, supporting documents, investigatory data associated with non-judicial punishment under Article 15 of the UCMJ and adverse actions or administrative actions; victim and witness statements; notifications, recordings, and elections of victim rights and investigative data (including investigative findings and reports); criminal history; parole and release information; information received from other governmental agencies, confidential sources and other sources pertaining to an investigation, as well as investigatory referrals from other agencies, tips, and leads pertaining to potential criminal activities.

D. Other information such as: Visitors logs, to include contact info, phone number, and affiliation, custody classification, progress reports, co-conspirator affiliation, disciplinary and observation records.

RECORD SOURCE CATEGORIES:

The DoD may receive information during the law enforcement activities described in this system of records from a wide range of sources. Sources of information include: individual, courts and tribunals, domestic and foreign governmental and quasi-governmental agencies and data systems, public records and other publicly available sources, subjects of investigation, victims, witnesses, confidential sources, attorneys and other legal personnel, DoD employees participating in disciplinary functions, investigators, law enforcement entities and other individuals or organizations that may provide pertinent information about the prisoner.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a Routine Use pursuant to 5 U.S.C. 552a(b)(3) as follows:

A. To contractors, grantees, experts, consultants, students, and others performing or working on a contract, service, grant, cooperative agreement, or other assignment for the Federal government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice (DOJ) for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State, or local agency for the purpose of comparing to the agency's system of records or to non-Federal records, in coordination with an Office of Inspector General in conducting an audit, investigation, inspection, evaluation, or other review as authorized by the Inspector General Act of 1978, as amended.

J. To such recipients and under such circumstances and procedures as are mandated by Federal statute or treaty.

K. To a Federal, state, local, tribal, foreign, or international agency, where such agency has requested information relevant or necessary for the hiring or retention of an individual, or the issuance of a security clearance, license, contract, grant, or other benefit, or if necessary to obtain information relevant to a DoD decision concerning the hiring or retention of an individual, the issuance of a security clearance, license, contract, grant, or other benefit.

L. To a public or professional licensing authority, organization, board, agency, or society (to include a medical or legal professional society, organization, or licensing authority), if such information is needed to perform functions related to licensing or professional standards monitoring or compliance, or when the information indicates, either by itself or in combination with other information, a violation or potential violation of

professional standards, or reflects on the moral, educational, or professional qualifications of an individual who is licensed or who is seeking to become licensed.

M. To the DOJ and other Federal, State, or local government prosecuting or litigating agencies, for the purpose of satisfying obligations under Giglio (405 U.S. 150 (1972)) and Henthorn (931 F.2d 29 (9th Cir. 1991)), as well as the DOJ United States Attorneys' Manual, Section 9-5.100 and DoD IG Instruction 5500.1, DOJ Requirements for Potential Impeachment Information (Giglio Policy), or DoD OIG initiated notifications of similar information.

N. To foreign or international law enforcement, security, or investigatory authorities to comply with requirements imposed by, or to claim rights conferred in, international agreements and arrangements, including those regulating the stationing and status in foreign countries of DoD military and civilian personnel.

O. To the Department of State when it requires information to consider and/or provide an informed response to a request for information from a foreign, international, or intergovernmental agency, authority, or organization about a pending legal action or prosecution with transnational implications.

P. To unions recognized as exclusive bargaining representatives under the Civil Service Reform Act of 1978, 5 U.S.C. 7111 and 7114, the Merit Systems Protection Board, arbitrators, the Federal Labor Relations Authority, and other parties responsible for the administration of the Federal labor-management program for the purpose of processing any corrective actions, or grievances, or conducting administrative hearings or appeals.

Q. To the Merit Systems Protection Board and the Office of the Special Counsel for the purpose of litigation, including administrative proceedings, appeals, special studies of the civil service and other merit systems; review of Office of Personnel Management (OPM) or component rules and regulations; investigation of alleged or possible prohibited personnel practices, including administrative proceedings involving any individual subject of a DoD investigation.

R. To state and local taxing authorities with which the Secretary of the Treasury has entered into agreements under 5 U.S.C. 5516, 5517, or 5520 and only to those state and local taxing authorities for which an employee or Service member is or was subject to tax, regardless of whether tax is or was withheld. The information to be disclosed is information normally contained in Internal Revenue Service (IRS) Form W-27.

S. To the Office of Personnel Management for the purpose of addressing civilian pay and leave, benefits, retirement deduction, and any other information necessary for the OPM to carry out its legally authorized government-wide personnel management functions and studies.

T. To the general public to provide access to docket information, filings, and records in compliance with Article 140a, UCMJ or other Federal statutes, and corresponding DoD or Service implementing guidance, regulations, or policies.

U. To confinement/correctional system agencies for use in the administration of correctional programs to include custody classification; employment, training, and educational assignments; treatment programs; clemency, restoration to duty, and parole actions; verifications concerning military offenders or military criminal records, employment records and social histories.

V. To the U.S. Department of Veterans Affairs (VA) to assist the Department in determining the individual's entitlement to benefits administered by the VA.

W. To other Federal, State, tribal, and local government law enforcement and regulatory agencies and foreign governments, individuals, and organizations during the course of an investigation or the processing of a matter, or during a proceeding within the purview of the local, state, federal or host-country specific laws, to elicit information required by the Department to carry out its functions and statutory mandates.

X. To state and local authorities for purposes of providing (1) notification that individuals, who have been convicted of a specified sex offense or an offense against a victim who is a minor, will be residing in the state upon release from military confinement and (2) information about the individual for inclusion in a state-operated sex offender registry.

Y. To victims and witnesses of a crime for the purpose of notifying them of date of parole or clemency hearing and other release-related activities.

Z. To the Department of Homeland Security, including U.S. Immigration and Customs Enforcement, to review records for possible deportation of a foreign national prisoner.

POLICIES AND PRACTICES FOR STORAGE OF RECORDS:

Records may be stored electronically or on paper in secure facilities in a locked drawer behind a locked door. Electronic records may be stored locally on digital media; in agency-owned cloud environments; or in vendor Cloud Service Offerings certified under the Federal Risk and Authorization Management Program (FedRAMP).

POLICIES AND PRACTICES FOR RETRIEVAL OF RECORDS:

Records may be retrieved by individual's name, SSN, DoD ID number, or prisoner registration number.

POLICIES AND PRACTICES FOR RETENTION AND DISPOSAL OF RECORDS:

Records are maintained and disposed in accordance with National Archives and Records Administration Schedules. The Military Departments retain records in accordance with their individual Records and Information Management retention schedules. The retention period may be obtained by contacting the system manager for the Military Department.

ADMINISTRATIVE, TECHNICAL, AND PHYSICAL SAFEGUARDS:

DoD safeguards records in this system of records according to applicable rules, policies, and procedures, including all applicable DoD automated systems security and access policies. DoD policies require the use of controls to minimize the risk of compromise of personally identifiable information (PII) in paper and electronic form and to enforce access by those with a need to know and with appropriate clearances. Additionally, DoD has established security audit and accountability policies and procedures which support the safeguarding of PII and detection of potential PII incidents. DoD routinely employs safeguards such as the following to information systems and paper recordkeeping systems: Multifactor log-in authentication including Common Access Card (CAC) authentication and password; physical token as required; physical and technological access controls governing access to data; network encryption to protect data transmitted over the network; disk encryption securing disks storing data; key management services to safeguard encryption keys; masking of sensitive data as practicable; mandatory information assurance and privacy training for individuals who will have access; identification, marking, and safeguarding of PII; physical access safeguards including multifactor identification physical access controls, detection and electronic alert systems for access to servers and other network infrastructure; and electronic intrusion detection systems in DoD facilities.

RECORD ACCESS PROCEDURES:

Individuals seeking access to their records should follow the procedures in 32 CFR part 310. Individuals should address written inquiries to the DoD component with oversight of the records, as the component has Privacy Act responsibilities concerning access, amendment, and disclosure of the records within this system of records. The public may identify the contact information for the appropriate DoD office through the following website: www.FOIA.gov. Signed written requests should contain the name and number of this system of records notice along with the full name, current address, email address of the individual, SSN and/or DoDI-ID number, dates of confinement, date of birth, and any details which may assist in locating the records. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

Individuals seeking to amend or correct the content of records about them should follow the procedures in 32 CFR part 310.

NOTIFICATION PROCEDURES:

Individuals seeking to determine whether information about themselves is contained in this system of records should follow the instructions for Record Access Procedures above.

EXEMPTIONS PROMULGATED FOR THE SYSTEM:

The DoD has exempted records maintained in this system from 5 U.S.C. 552a(c)(3) and (4), (d)(1), (2), (3), and (4); (e)(1), (2) (3), (4)(G)-(I), (5), and (8); (f) and (g) of the Privacy Act, pursuant to 5 U.S.C. 552a(k)(1), (k)(2) and (j)(2), as applicable. An exemption rule for this system has been promulgated in accordance with the requirements of 5 U.S.C. 553(b)(1), (2), and (3), and (c), and published in 32 CFR part 310. In addition, when exempt records received from other systems of records become part of this system, the DoD also claims the same exemptions for those records that are claimed for the prior systems of records from which they were a part and claims any additional exemptions set forth here.

HISTORY:

None.

[FR Doc. 2024-29640 Filed 12-20-24; 8:45 am]

BILLING CODE 6001-FR-P